DEPARTMENT OF HEALTH AND HUMAN SERVICES

National Institutes of Health

National Cancer Institute; Amended Notice of Meeting

Notice is hereby given of a change in the meeting of the National Cancer Advisory Board, December 9, 2008, 8:30 a.m. to 3:55 p.m., National Institutes of Health, Building 31, 31 Center Drive, Bethesda, MD 20892, which was published in the Federal Register on November 24, 2008 73 FR 71015.

This notice is amended to change the start time of the open session on December 9, 2008 to approximately 11:15 a.m. and the end time to 3:30 p.m. The closed session will be held from 3:30 p.m. to 3:55 p.m.

Dated: November 25, 2008.
Jennifer Spaeth,
Director, Office of Federal Advisory Committee Policy.

[FR Doc. E8-28727 Filed 12-3-08; 8:45 am]

BILLING CODE 4140-01-P